DEPARTMENT OF ENERGY

Federal Energy Regulatory Commission

Combined Notice of Filings # 1

February 12, 2010.

Take notice that the Commission received the following electric corporate filings:

Docket Numbers: EC10-45-000.

Applicants: J-POWER USA Generation, LP.

Description: Application Pursuant to Section 203 for Authorization of the Acquisition of Orange Grove Energy, L.P. by J-POWER USA Generation, LP, Request for Waiver and Expedited Consideration.

Filed Date: 02/09/2010.

Accession Number: 20100209-5046.

Comment Date: 5 p.m. Eastern Time on Tuesday, March 2, 2010.

Take notice that the Commission received the following exempt wholesale generator filings:

Docket Numbers: EG10-18-000.

Applicants: CER Generation, LLC.

Description: Notice of Self-Certification of Exempt Wholesale Generator Status of CER Generation, LLC.

Filed Date: 02/03/2010.

Accession Number: 20100203-5075.

Comment Date: 5 p.m. Eastern Time on Wednesday, February 24, 2010.

Docket Numbers: EG10-19-000.

Applicants: Day County Wind, LLC.

Description: Notice of Self-Certification of Exempt Wholesale Generator Status of Day County Wind, LLC.

Filed Date: 02/04/2010.

Accession Number: 20100204-5100.

Comment Date: 5 p.m. Eastern Time on Thursday, February 25, 2010.

Docket Numbers: EG10-20-000.

Applicants: Northeastern Power Company.

Description: Notice of Self-Certification of Exempt Wholesale Generator Status of Northeastern Power Company.

Filed Date: 02/04/2010.

Accession Number: 20100204-5108.

Comment Date: 5 p.m. Eastern Time on Thursday, February 25, 2010.

Docket Numbers: EG10-21-000.

Applicants: AES ES Westover, LLC.

Description: Notice of Self-Certification as an Exempt Wholesale Generator of AES ES Westover, LLC.

Filed Date: 02/05/2010.

Accession Number: 20100205-5050.

Comment Date: 5 p.m. Eastern Time on Friday, February 26, 2010.

Take notice that the Commission received the following electric rate filings:

Docket Numbers: ER97-4143-022; ER98-2075-027; ER98-542-024; ER07-1130-004.

Applicants: American Electric Power Service Corporation; CSW Energy Services, Inc.; Central & South West Services, Inc.; AEP Energy Partners, Inc.

Description: Supplement to its Updated market power analysis of American Electric Power Service Corporation et al.

Filed Date: 02/05/2010.

Accession Number: 20100205-5108.

Comment Date: 5 p.m. Eastern Time on Friday, February 26, 2010.

Docket Numbers: ER97-4257-014.

Applicants: Mid-Power Service Corporation.

Description: Mid-Power Service Corporation submits an amendment to the tariff page that was included in their Amended and Restated Application for authorization to make wholesale sales of energy and capacity at negotiated, market-bases rates.

Filed Date: 02/01/2010.

Accession Number: 20100202-0028.

Comment Date: 5 p.m. Eastern Time on Monday, February 22, 2010.

Docket Numbers: ER99-1435-022; ER00-1814-010; ER10-390-001.

Applicants: Avista Corporation; Avista Turbine Power, Inc.

Description: Avista Corp.'s Request for Waiver of Affiliate Restrictions as Necessary to Implement the Avista Power Purchase Agreement.

Filed Date: 02/05/2010.

Accession Number: 20100205-5112.

Comment Date: 5 p.m. Eastern Time on Friday, February 26, 2010.

Docket Numbers: ER99-2284-014; ER98-2185-019; ER09-1278-003; ER09-38-004; ER99-1773-014; ER99-1761-010; ER01-1315-010; ER01-2401-010; ER98-2184-019; ER98-2186-020; ER00-33-010; ER05-442-008; ER00-1026-021.

Applicants: AEE 2, LLC; AES Alamitos, Inc.; AES Armenia Mountain Wind, LLC; AES Energy Storage, LLC; AES Creative Resources, LP; AES Eastern Energy, LP; AES Ironwood, LLC; AES Red Oak, LLC; AES Huntington Beach, LLC; AES Redondo Beach, LLC; AES Placerita, Inc.; Condon Wind Power, LLC; Indianapolis Power & Light Company; Mountain View Power Partners, LLC.

Description: Quarterly Report of Generation Site Acquisitions of the AES MBR Affiliates.

Filed Date: 02/01/2010.

Accession Number: 20100201-5114.

Comment Date: 5 p.m. Eastern Time on Monday, February 22, 2010.

Docket Numbers: ER99-2948-020; ER10-346-005; ER08-860-001; ER07-247-011; ER07-245-011; ER07-244-011; ER05-728-012; ER04-485-017; ER02-2567-019; ER01-556-018; ER01-1654-022; ER00-2918-019.

Applicants: Constellation Energy Commodities Group, R.E. Ginna Nuclear Power Plant, LLC, Baltimore Gas and Electric Company, Constellation Pwr Source Generation LLC, Constellation NewEnergy, Inc., Nine Mile Point Nuclear Station, LLC, CER Generation II, LLC, Handsome Lake Energy, LLC, Constellation Energy Commodities Group M, Calvert Cliffs Nuclear Power Plant LLC, Raven One, LLC, Raven Three, LLC, Raven Two, LLC.

Description: Notice of Change in Status of Constellation MBR Entities.

Filed Date: 02/03/2010.

Accession Number: 20100203-5091.

Comment Date: 5 p.m. Eastern Time on Wednesday, February 24, 2010.

Docket Numbers: ER00-1115-012; ER00-3562-013; ER00-38-011; ER01-2887-011; ER01-480-010; ER02-1319-010; ER02-1367-008; ER02-1633-008; ER02-1959-009; ER02-2227-011; ER02-2229-010; ER02-600-012; ER03-1288-007; ER03-209-009; ER03-24-010; ER03-341-008; ER03-342-009; ER03-446-009; ER03-49-009; ER03-838-010; ER04-1081-007; ER04-1099-008; ER04-1100-008; ER04-1221-007; ER04-831-009; ER05-67-007; ER05-68-007; ER05-819-007; ER05-820-007; ER06-441-006; ER06-741-007; ER06-742-007; ER06-749-007; ER06-750-007; ER06-751-008; ER06-752-007; ER06-753-006; ER06-755-007; ER06-756-007; ER07-1335-007; ER09-1084-004; ER09-71-004; ER99-970-011; ER99-1983-010.

Applicants: Calpine Construction Finance Company, LP; Calpine Energy Services, LP; Broad River Energy LLC; South Point Energy Center, LLC; Mobile Energy LLC; Zion Energy LLC; Calpine Oneta Power, LP; Auburndale Peaker Energy Center, LLC; CPN Bethpage 3rd Turbine, Inc.; Creed Energy Center, LLC; Goose Haven Energy Center, LLC; Delta Energy Center, LLC; Rocky Mountain Energy Center, LLC; CES Marketing V, LP; Los Esteros Critical Energy Facility LLC; Calpine Power America—OR, LLC; Calpine Power America—CA, LLC; Calpine Philadelphia, Inc; Riverside Energy Center, LLC; Power Contract Financing, LLC; PCF2, LLC; Bethpage Energy Center 3, LLC; TBG Cogen Partners; Mankato Energy Center, LLC; Calpine Newark, LLC; Metcalf Energy Center, LLC; Pastoria Energy Center, LLC; CES Marketing X, LLC; Decatur Energy Center, LLC; KIAC PARTNERS; Pine Bluff Energy, LLC; Nissequogue Cogen Partners; Carville Energy LLC; Morgan Energy Center, LLC; Columbia Energy LLC; CPN Pryor Funding Corporation; Calpine Gilroy Cogen, LP; Los Medanos Energy Center LLC; Santa Rosa Energy Center, LLC; Hermiston Power, LLC; Otay Mesa Energy Center, LLC; RockGen Energy, LLC; Geysers Power Company, LLC.

Description: The Calpine MBR Sellers submits the quarterly report for the fourth quarter of 2009 on the acquisition of sites for new generation etc.

Filed Date: 02/01/2010.

Accession Number: 20100204-0208.

Comment Date: 5 p.m. Eastern Time on Monday, February 22, 2010.

Docket Numbers: ER04-659-013; ER04-660-013; ER04-994-008; ER99-3168-012; ER04-657-013.

Applicants: Fore River Development, LLC; Mystic Development, LLC; Boston Generating, LLC; Astoria Generating Company, LP; Mystic Development, LLC.

Description: Astoria Generating Company, LP et al. submits quarterly report for the fourth quarter of 2009 on the acquisition of site for new generation capacity development etc.

Filed Date: 02/01/2010.

Accession Number: 20100204-0253.

Comment Date: 5 p.m. Eastern Time on Monday, February 22, 2010.

Docket Numbers: ER10-315-001.

Applicants: Northeast Utilities Service Company.

Description: Refund Report of Northeast Utilities Service Company.

Filed Date: 02/09/2010.

Accession Number: 20100209-5015.

Comment Date: 5 p.m. Eastern Time on Tuesday, March 2, 2010.

Docket Numbers: ER10-450-002; ER00-3696-014; ER02-506-014; ER98-2783-018; ER03-1383-017; ER07-1000-006; ER96-1947-028; ER01-3109-015; ER01-1044-015; ER99-2157-015; ER09-1491-002.

Applicants: Arlington Valley, LLC; Griffith Energy LLC; Bluegrass Generation Company, LLC; Bridgeport Energy, LLC; DeSoto County Generating Company, LLC; Las Vegas Power Company, LLC; LS Power Marketing, LLC; Renaissance Power, LLC; Riverside Generating Company, LLC; Rocky Road Power, LLC; Tilton Energy LLC.

Description: LS Power Development, LLC submits their quarterly report for the fourth quarter of 2009 on the acquisition of sites for new generation capacity development etc.

Filed Date: 02/01/2010.

Accession Number: 20100205-0001.

Comment Date: 5 p.m. Eastern Time on Monday, February 22, 2010.

Docket Numbers: ER10-583-001.

Applicants: Monarch Global Energy, Inc.

Description: Monarch Global Energy, Inc submits amended petition for acceptance of initial rate schedule, waiver and blanket authority.

Filed Date: 02/01/2010.

Accession Number: 20100203-0202.

Comment Date: 5 p.m. Eastern Time on Monday, February 22, 2010.

Docket Numbers: ER10-706-000.

Applicants: Midwest Independent Transmission System Operator, Inc.

Description: Midwest Independent Transmission System Operator, Inc. submits amended and restated large generator interconnection agreement.

Filed Date: 02/01/2010.

Accession Number: 20100202-0235.

Comment Date: 5 p.m. Eastern Time on Monday, February 22, 2010.

Docket Numbers: ER10-707-000.

Applicants: Florida Power Corporation.

Description: Florida Power Corporation submits Interchange Service Agreements.

Filed Date: 02/01/2010.

Accession Number: 20100202-0233.

Comment Date: 5 p.m. Eastern Time on Monday, February 22, 2010.

Docket Numbers: ER10-708-000.

Applicants: American Electric Power Service Corporation.

Description: Kentucky Power Company submits and request acceptance of a first revised Interconnection Agreement 1530 to its FERC Electric Tariff, Sixth Revised Volume 1 with East Kentucky Power Cooperative.

Filed Date: 02/01/2010.

Accession Number: 20100202-0234.

Comment Date: 5 p.m. Eastern Time on Monday, February 22, 2010.

Docket Numbers: ER10-709-000.

Applicants: Pacific Gas and Electric Company.

Description: Pacific Gas and Electric Co. submits the Twenty-Eighth Filing of Facilities Agreements.

Filed Date: 02/01/2010.

Accession Number: 20100202-0242.

Comment Date: 5 p.m. Eastern Time on Monday, February 22, 2010.

Docket Numbers: ER10-710-000.

Applicants: Nevada Power Company, Sierra Pacific Power Company.

Description: Nevada Power Company et al. submit revisions to the Sierra Pacific Resources Operating Companies FERC Electric Third Revised Volume No. 1 Open Access Transmission Tariff.

Filed Date: 02/01/2010.

Accession Number: 20100202-0240.

Comment Date: 5 p.m. Eastern Time on Monday, February 22, 2010.

Docket Numbers: ER10-711-000.

Applicants: Respond Power LLC.

Description: Respond Power, LLC submits their petition for acceptance of FERC Electric Tariff, original Volume 1.

Filed Date: 02/04/2010.

Accession Number: 20100205-0214.

Comment Date: 5 p.m. Eastern Time on Thursday, February 25, 2010.

Docket Numbers: ER10-714-000.

Applicants: ISO New England Inc., New England Power Pool.

Description: ISO New England, Inc et al. submits Installed Capacity Requirement, Local Sourcing Requirements and Maximum Capacity Limits and Hydro Quebuec Interconnection Capability.

Filed Date: 02/02/2010.

Accession Number: 20100204-0218.

Comment Date: 5 p.m. Eastern Time on Tuesday, February 23, 2010.

Docket Numbers: ER10-719-000.

Applicants: Matched LLC.

Description: Matched LLC submits Petition for Acceptance of Initial Tariff, Waivers and Blanket Authority.

Filed Date: 02/04/2010.

Accession Number: 20100204-0251.

Comment Date: 5 p.m. Eastern Time on Thursday, February 25, 2010.

Docket Numbers: ER10-721-000.

Applicants: New York Independent System Operator, Inc.

Description: New York Independent System Operator, Inc submits its Open Access Transmission Tariff and its Market Administration and Control Area Services Tariff to establish credit requirements for bidding etc.

Filed Date: 02/04/2010.

Accession Number: 20100205-0201.

Comment Date: 5 p.m. Eastern Time on Thursday, February 25, 2010.

Docket Numbers: ER10-722-000.

Applicants: Pittsfield Generating Company, LP.

Description: Pittsfield Generating Company, LP et al. request that the Commission grant a limited waiver of the deadline prescribed in the ISO New England Inc Forward Capacity Market Rules for modifying the Summer Qualified Capacity etc.

Filed Date: 02/04/2010.

Accession Number: 20100205-0202.

Comment Date: 5 p.m. Eastern Time on Thursday, February 25, 2010.

Docket Numbers: ER10-723-000.

Applicants: Puget Sound Energy, Inc.

Description: Puget Sound Energy, Inc submits revisions to its Open Access Transmission Tariff, to be effective May 1, 2010.

Filed Date: 02/04/2010.

Accession Number: 20100205-0203.

Comment Date: 5 p.m. Eastern Time on Thursday, February 25, 2010.

Docket Numbers: ER10-724-000.

Applicants: PJM Interconnection, LLC.

Description: PJM Interconnection, LLC submits a fully executed Emergency Energy Transactions Agreement dated January 12, 2010 with East Kentucky Power Cooperative.

Filed Date: 02/04/2010.

Accession Number: 20100205-0204.

Comment Date: 5 p.m. Eastern Time on Thursday, February 25, 2010.

Take notice that the Commission received the following electric securities filings:

Docket Numbers: ES10-13-002.

Applicants: FirstEnergy Service Company.

Description: Joint Application under Section 204 of the Federal Power Act for Authorization to issue short term debt securities re FirstEnergy Service Company on behalf of Jersey Central Power & Light Company et al.

Filed Date: 01/29/2010.

Accession Number: 20100204-0209.

Comment Date: 5 p.m. Eastern Time on Friday, February 19, 2010.

Docket Numbers: ES10-26-000.

Applicants: PJM Interconnection, LLC.

Description: Application of PJM Interconnection, LLC under Section 204 for an Order Authorizing the Issuance of Securities.

Filed Date: 02/05/2010.

Accession Number: 20100205-5036.

Comment Date: 5 p.m. Eastern Time on Friday, February 26, 2010.

Take notice that the Commission received the following foreign utility company status filings:

Docket Numbers: FC10-1-000.

Applicants: EDF EN Canada Inc.

Description: Notification of Self-Certification of Foreign Utility Company Status of EDF EN Canada Inc.

Filed Date: 02/05/2010.

Accession Number: 20100205-5051.

Comment Date: 5 p.m. Eastern Time on Friday, February 26, 2010.

Take notice that the Commission received the following open access transmission tariff filings:

Docket Numbers: OA08-34-003.

Applicants: Public Service Company of New Mexico.

Description: Public Service Company of New Mexico submits Notification filing pursuant to Sections 19.10 and 32.5 of their Open Access Transmission Tariff and FERC directives in Order 890 et al.

Filed Date: 02/01/2010.

Accession Number: 20100204-0212.

Comment Date: 5 p.m. Eastern Time on Monday, February 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-3317 Filed 2-19-10; 8:45 am]

BILLING CODE 6717-01-P